DEPARTMENT OF ENERGY

Federal Energy Regulatory Commission

[Docket No. CP00-6-003]

Gulfstream Natural Gas System, L.L.C.; Notice of Amendment to Certificate of Public Convenience and Necessity

January 7, 2002.

Take notice that on December 28, 2001, Gulfstream Natural Gas System, L.L.C. (Gulfstream), 2701 North Rocky Point Drive, Tampa, Florida 33607, filed in Docket No. CP00-6-003, an application pursuant to section 7(c) of the Natural Gas Act to amend the certificate of public convenience and necessity issued to Gulfstream on February 22, 2001 in Docket Nos. CP00-6-000, 001, CP00-7-000, 001 and CP00-8-000, 001, to amend the certificate and to request certain other authorizations, all as more fully set forth in the application which is on file with the Commission and open to public inspection. Copies of this filing are on file with the Commission and are available for public inspection. This filing may also be viewed on the Web at http://www.ferc.gov using the “RIMS” link, select “Docket #” and follow the instructions (call 202-208-2222 for assistance

Gulfstream states that it filed the original application for authorization to construct and operate 753 miles of new interstate gas transmission pipeline from various sources in Alabama and Mississippi to electric power generators and local utilities in the State of Florida (the Project) in the captioned docket on October 15, 1999.

Gulfstream states that the amendment requests authorization to (i) phase construction of its certificated pipeline facilities such that a portion of such facilities will be placed into service on June 1, 2002 (Phase I), with the remainder of such certificated facilities being placed into service on or about June 1, 2003, but not later than February 21, 2004, one year following the deadline for completion of the facilities set forth in the February 22 Order; (ii) modify its initial recourse rates to reflect such phasing of construction and to reflect changes in construction costs; and (iii) obtain related approvals. Gulfstream states that the amendment will facilitate construction of Gulfstream's pipeline system to meet growing demand for natural gas in central and eastern Florida.

Gulfstream states that it is requesting the Commission to grant the requested authorizations by March 31, 2002, so Gulfstream can complete its construciton of the Phase I facilities by June 1, 2002, to meet the in-service date requested by its Phase I shippers.

Any questions concerning this application may be directed to P. Martin Teague, Gulfstream Natural Gas System, L.L.C., 2701 North Rocky Point Drive, Tampa, Florida 33607, call (813) 282-6609.

There are two ways to become involved in the Commission's review of this project. First, any person wishing to obtain legal status by becoming a party to the proceedings for this project should, on or before January 28, 2002, file with the Federal Energy Regulatory Commission, 888 First Street, NE, Washington, DC 20426, a motion to intervene in accordance with the requirements of the Commission's rules of practice and procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

C.B. Spencer,
Acting Secretary.

[FR Doc. 02-833 Filed 1-11-02; 8:45 am]

BILLING CODE 6717-01-P